DEPARTMENT OF DEFENSE

Department of the Army

[Docket ID: USA-2008-0059]

Privacy Act of 1974; System of Records

AGENCY: Department of the Army, DoD.

ACTION: Notice to amend a system of records.

SUMMARY: The Department of the Army is amending a system of records notice in its existing inventory of record systems subject to the Privacy Act of 1974, (5 U.S.C. 552a), as amended.

DATES: This proposed action will be effective without further notice on October 14, 2008, unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 3, 2008.
Patricia L. Toppings,
OSD Federal Register Liaison Officer, Department of Defense.

A0601-210 DAPE

SYSTEM NAME:

Army Recruiting Prospect System (February 22, 1993, 58 FR 10146).

CHANGES:

Change System ID to “A0601-210c TRADOC.”

* * * * *

SYSTEM LOCATION:

Delete entry and replace with “Army recruiting stations and the Army Accessions Command Integrated Automation Architecture; addresses may be obtained from the Commander, U.S. Army Recruiting Command, Fort Knox, KY 40121-2725.”

* * * * *

AUTHORITY FOR MAINTENANCE OF THE SYSTEM:

Delete entry and replace with “10 U.S.C. 3013, Secretary of the Army; Army Regulation 601-210, Active and Reserve Components Enlistment Program and E.O. 9397 (SSN).”

* * * * *

STORAGE:

Delete entry and replace with “Paper records and electronic storage media.”

* * * * *

SAFEGUARDS:

Delete entry and replace with “Information in this system is maintained in locked storage areas available only to designated individuals having need therefore in the performance of official duties. Personal information on prospects which is entered into the Army Recruiting Information Support System (ARISS). Administrative, physical and technical safeguards employed by the Accessions Command, Recruiting Command and its contractor are commensurate with the sensitivity of personal data to ensure preservation of integrity and to preclude unauthorized use/disclosure.”

* * * * *

SYSTEM MANAGER(S) AND ADDRESS:

Delete entry and replace with “Commander, U.S. Army Recruiting Command, Fort Knox, KY 40121-2725.”

NOTIFICATION PROCEDURE:

Change Zip Code to “40121-2725.”

RECORD ACCESS PROCEDURES:

Change Zip Code to “40121-2725.”

* * * * *

A0601-210c TRADOC

SYSTEM NAME:

Army Recruiting Prospect System.

SYSTEM LOCATION:

Army recruiting stations and the Army Accessions Command Integrated Automation Architecture; addresses may be obtained from the Commander, U.S. Army Recruiting Command, Fort Knox, KY 40121-2725.

CATEGORIES OF INDIVIDUALS COVERED BY THE SYSTEM:

Prospects for Army enlistment, individuals who have asked to be excluded from Army promotional mailing, third parties who refer names of prospects to recruiters or who are influential in the recruiting effort.

CATEGORIES OF RECORDS IN THE SYSTEM:

Name, Social Security Number, home address and telephone number, schools attended, arrest record, names and addresses of prospective enlistee. On acceptance, applicant's record includes information furnished by the Military Enlistment Processing Command reflecting examination results. Also included are name, address and/or telephone number of third parties who are influential in the recruiting program, e.g., city/state officials, Chamber of Commerce members, university/college/high school staff and faculty.

AUTHORITY FOR MAINTENANCE OF THE SYSTEM:

10 U.S.C. 3013, Secretary of the Army; Army Regulation 601-210, Active and Reserve Components Enlistment Program and E.O. 9397 (SSN).

PURPOSE(S):

These records are used by the Department of the Army: (1) To review an individual's potential for enlisting; (2) to obtain school quotas for potential enlistee's skills, educational, and assignment preferences and objectives; (3) to monitor recruiter performance; (4) for personnel management, statistical, and historical reports.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records and electronic storage media.

RETRIEVABILITY:

By name or Social Security Number of the prospective enlistee, inquirer, recruiter, or third party referring agent.

SAFEGUARDS:

Information in this system is maintained in locked storage areas available only to designated individuals having need therefore in the performance of official duties. Personal information on prospects which is entered into the Army Recruiting Information Support System (ARISS). Administrative, physical and technical safeguards employed by the Accessions Command, Recruiting Command and its contractor are commensurate with the sensitivity of personal data to ensure preservation of integrity and to preclude unauthorized use/disclosure.

RETENTION AND DISPOSAL:

Information furnished by a prospective enlistee is retained until 3 months following end of enlistee's initial term of service, after which it is destroyed or erased; information concerning individuals who provide names of prospects is retained until no longer needed; information on prospects not enlisted is destroyed/erased at the end of each calendar year following that in which collected.

SYSTEM MANAGER(S) AND ADDRESS:

Commander, U.S. Army Recruiting Command, Fort Knox, KY 40121-2725.

NOTIFICATION PROCEDURE:

Individuals wishing to inquire whether this system contains information about them should write to the commander of the recruiting station to which information was provided, or to the Commander, U.S. Army Recruiting Command, Fort Knox, KY 40121-2725.

Individual must provide full name, Social Security Number, details that will assist in locating the records, and signature.

RECORD ACCESS PROCEDURES:

Individuals seeking access to information from this system should address requests to the commander of the recruiting station to which information was provided, or to the Commander, U.S. Army Recruiting Command, Fort Knox, KY 40121-2725.

Individual must provide full name, Social Security Number, details that will assist in locating the records, and signature.

CONTESTING RECORD PROCEDURES:

The Army's rules for access to records and for contesting contents and appealing initial agency determinations are contained in Army Regulation 340-21; 32 CFR part 505; or may be obtained from the system manager.

RECORD SOURCE CATEGORIES:

From the individual, high school officials/yearbooks/directories, law enforcement agencies, third parties who provide prospect leads, relevant Army records/reports, influential community officials.

EXEMPTIONS CLAIMED FOR THE SYSTEM:

None.

[FR Doc. E8-21087 Filed 9-10-08; 8:45 am]

BILLING CODE 5001-06-P